DEPARTMENT OF JUSTICE

Drug Enforcement Administration

[Docket No. 04-30]

Lance L. Gooberman, M.D.; Denial of Registration

On March 15, 2004, the Deputy Assistant Administrator, Office of Diversion Control, Drug Enforcement Administration (DEA), issued an Order to Show Cause to Lance L. Gooberman, M.D. (Dr. Gooberman), notifying him of an opportunity to show cause as to why DEA should not revoke his DEA Certificate of Registration, AG9773703, as a practitioner, pursuant to 21 U.S.C. 824(a)(3) and (a)(4) and deny any pending applications for renewal or modification of that registration pursuant to 21 U.S.C. 823(f).

The Order to Show Cause alleged that Dr. Gooberman's license to practice medicine in New Jersey, where he was registered, had been suspended by the State of New Jersey, Board of Medical Examiners (New Jersey Board) and he was not authorized to handle controlled substances in that state.

On April 13, 2004, Dr. Gooberman, acting pro se, requested a hearing and on April 20, 2004, Administrative Law Judge Gail A. Randall (Judge Randall) issued an Order for Prehearing Statements. On July 7, 2004, in response to a Government motion for Consolidation, Judge Randall ordered Dr. Gooberman's case consolidated with the pending case of David W. Bradway, M.D. (Docket No. 04-27]. Dr. Bradway had been in practice with Dr. Gooberman and they had been disciplined by the New Jersey Board in a joint proceeding, for the same professional misconduct.

After authorized delays, on September 8, 2004, counsel for the Government filed a Motion for Summary Disposition. It alleged that on July 14, 2004, the Commonwealth of Pennsylvania, Department of State, State Board of Medicine (Pennsylvania Board) issued an Adjudication and Order suspending Dr. Gooberman's Pennsylvania medical license. That action was predicated on the New Jersey Board's Final Order of March 10, 2003, which suspended Dr. Gooberman's New Jersey medical license for a period of two years from the Order's effective date of June 19, 2003. The Government attached a copy of both the Pennsylvania and New Jersey Orders and argued that, since Dr. Dooberman's licenses to practice medicine in New Jersey and Pennsylvania were both suspended, he was not authorized to handle controlled substances in the jurisdiction of his registration and ineligible for a modification of location to Pennsylvania.

Judge Randall issued an order allow Dr. Gooberman to respond to the Government's motion. Having noticed that Dr. Gooberman's DEA Certificate of Registration had expired prior to initiation of the show cause proceedings, she also directed the Government to address the impact of its apparent expiration.

The Government replied that Dr. Gooberman submitted a renewal application one week before his registration's expiration. On the application, Dr. Gooberman noted he had left New Jersey and requested a change in registered location to an address in Pennsylvania. Judge Randall agreed with the Government that Dr. Gooberman's New Jersey registration was terminated by operation of law and that his request for an address modification must be treated as an application for registration in Pennsylvania. See 21 CFR 1301.51 and 1301.52.

The Government argued Dr. Gooberman's application was thus still pending before the administrative law judge and, based on lack of state authority to handle controlled substances in Pennsylvania, the Government moved for summary disposition. When Dr. Gooberman was given an opportunity to respond, he acknowledged his New Jersey and Pennsylvania licenses were suspended and that he did not “have a basis on which to hold a DEA Certificate of reigstration at this time.” Thus, he did not oppose the Government's motion.

On October 14, 2004, Judge Randall issued her Order, Opinion and Recommended Decision of the Administrative Law Judge (Opinion and Recommended Decision). As part of her recommended ruling, Judge Randall granted the Government's Motion for Summary Disposition, finding Dr. Gooberman's New Jersey DEA registration had terminated by operation of law and he lacked authorization to handle controlled substances in Pennsylvania, the jurisdiction where he was seeking registration.

In granting the Government's motion, Judge Randall recommended that Dr. Gooberman's application to renew and modify his registration be denied. No exceptions to the Opinion and Recommended Decision were filed and on November 23, 2004, Judge Randall forwarded her Opinion and Recommended Decision to the Deputy Administrator for final order pursuant to 21 CFR 1316.65(c).

The Deputy Administrator has considered the record in its entirety and pursuant to 21 CFR 1316.67, hereby issues her final order based upon findings of fact and conclusions of law as hereinafter set forth. The Deputy Administrator adopts, in full, the Opinion and Recommended Decision of the Administrative Law Judge.

The Deputy Administrator finds Dr. Gooberman currently possesses DEA Certificate of Registration AG9773703, as a practitioner in schedules II through V, with a registered location in Merchantville, New Jersey. On September 30, 2003, that registration was due to expire. However, a week earlier, Dr. Gooberman submitted a renewal application, requesting a change to a Pennsylvania location. Because Dr. Gooberman had abandoned his New Jersey registered location, Certificate of Registration AG9773703 was terminated under 21 CFR 1301.52.

The Deputy Administrator finds Dr. Gooberman's license to practice medicine in New Jersey was suspended by the New Jersey Board's Final Order of March 10, 2003, and his Pennsylvania license was suspended by the Pennsylvania Board's Adjudication and Order of July 14, 2004. There is no evidence before the Deputy Administrator that either the New Jersey or Pennsylvania Orders have been lifted, stayed or modified. Therefore, the Deputy Administrator finds Dr. Gooberman is currently not licensed to practice medicine in either New Jersey or Pennsylvania. As a result, it is reasonable to infer he is also without authorization to handle controlled substances in either state.

DEA does not have statutory authority under the Controlled Substances Act to issue or maintain a registration if the applicant or registrant is without state authority to handle controlled substances in the state in which he conducts business. See 21 U.S.C. 802(21), 823(f) and 824(a)(3). this prerequisite has been consistently upheld. See Stephen J. Graham, M.D., 69 FR 11,661 (2004); Dominick A. Ricci, M.D., 58 FR 51104 (1993); Bobby Watts, M.D., 53 FR 11,919 (1988). Revocation is also appropriate when a State license has been suspended, but with possibility of future reinstatement. See Alton E. Ingram, Jr., M.D., 69 FR 22,562 (2004); Ann Lazar Thorn, M.D., 62 FR 847 (1997)

Here, it is clear Dr. Goobermen is not currently licensed to handle controlled substances in Pennsylvania, where he seeks registration with DEA. Therefore, he is not entitled to such a registration.

Accordingly, the Deputy Administrator of the Drug Enforcement Administration, pursuant to the authority vested in her by 21 U.S.C. 823 and 824 and 28 CFR 0.100(b) and 0.104, hereby orders that the pending application of Lance L. Gooberman, M.D., for registration be, and it hereby is, denied. This order is effective June 17, 2005.

Dated: May 9, 2005.
Michele M. Leonhart,
Deputy Administrator.

[FR Doc. 05-9834 Filed 5-17-05; 8:45 am]

BILLING CODE 4410-09-M